DEPARTMENT OF ENERGY

Federal Energy Regulatory Commission

Combined Notice of Filings #1

Take notice that the Commission received the following electric corporate filings:

Docket Numbers: EC20-27-000.

Applicants: Beech Ridge Energy II LLC, Beech Ridge Energy II Holdings LLC, Southern Power Company.

Description: Application for Authorization Under Section 203 of the Federal Power Act, et al. of Beech Ridge Energy II LLC, et al.

Filed Date: 12/27/19.

Accession Number: 20191227-5125.

Comments Due: 5 p.m. ET 1/17/20.

Take notice that the Commission received the following electric rate filings:

Docket Numbers: ER10-2906-013; ER10-2908-013; ER11-4666-004; ER11-4667-004; ER11-4669-006; ER11-4670-006; ER12-295-003; ER12-709-005; ER19-1716-001.

Applicants: Morgan Stanley Capitol Group Inc., MS Solar Solutions Corp., Morgan Stanley Energy Structuring, L.L.C, NaturEner Glacier Wind Energy 1, LLC, NaturEner Glacier Wind Energy 2, LLC, NaturEner Rim Rock Wind Energy, LLC, Naturener Montana Wind Energy, LLC, NaturEner Power Watch, LLC, NaturEner Wind Watch, LLC.

Description: Updated Market Power Analysis for the Northwest Region and Notice of Change in Status of Morgan Stanley Capital Group Inc., et al.

Filed Date: 12/27/19.

Accession Number: 20191227-5128.

Comments Due: 5 p.m. ET 2/25/20.

Docket Numbers: ER10-3052-003.

Applicants: Rock River I, LLC.

Description: Updated Market Power Analysis for Northwest Region of Rock River I, LLC.

Filed Date: 12/27/19.

Accession Number: 20191227-5099.

Comments Due: 5 p.m. ET 2/25/20.

Docket Numbers: ER10-3245-010; ER10-3249-010;ER10-3250-010; ER11-2639-011.

Applicants: Foote Creek II, LLC, Foote Creek III, LLC, Foote Creek IV, LLC, Ridge Crest Wind Partners, LLC.

Description: Updated Market Power Analysis for Northwest Region of Foote Creek II, LLC, et al.

Filed Date: 12/27/19.

Accession Number: 20191227-5124.

Comments Due: 5 p.m. ET 2/25/20.

Docket Numbers: ER16-1255-015; ER15-1579-016; ER15-1582-017; ER15-1914-018; ER15-2679-014; ER15-2680-014; ER15-760-017; ER15-762-018; ER16-1609-008; ER16-1738-012; ER16-1901-012; ER16-1955-012; ER16-1956-012; ER16-1973-012; ER16-2201-011; ER16-2224-011; ER16-2541-011; ER16-2578-012; ER16-468-012; ER16-474-013; ER16-890-013; ER17-1864-010; ER17-1871-010; ER17-1909-010; ER17-306-011; ER17-544-011; ER18-1667-005; ER18-2327-004; ER18-2492-006; ER19-2527-001; ER19-846-005; ER19-847-005.

Applicants: Antelope Big Sky Ranch LLC, Antelope DSR 1, LLC, Antelope DSR 2, LLC, Antelope DSR 3, LLC, Antelope Expansion 2, LLC, Bayshore Solar A, LLC, Bayshore Solar B, LLC, Bayshore Solar C, LLC, Beacon Solar 1, LLC, Beacon Solar 3, LLC, Beacon Solar 4, LLC, Central Antelope Dry Ranch C LLC, Elevation Solar C LLC, FTS Master Tenant 1, LLC, FTS Master Tenant 2, LLC, ID Solar 1, LLC, Latigo Wind Park, LLC, North Lancaster Ranch LLC, Prevailing Wind Park, LLC, Pioneer Wind Park I LLC, Riverhead Solar Farm, LLC, San Pablo Raceway, LLC, Sandstone Solar LLC, Sierra Solar Greenworks LLC, Solverde 1, LLC, Summer Solar LLC, Western Antelope Blue Sky Ranch A LLC, Western Antelope Blue Sky Ranch B LLC, Western Antelope Dry Ranch LLC, 65HK 8me LLC, 67RK 8me LLC, 87RL 8me LLC.

Description: Triennial Market Power Analysis for the Northeast Region of Antelope Big Sky Ranch LLC, et. al.

Filed Date: 12/27/19.

Accession Number: 20191227-5135.

Comments Due: 5 p.m. ET 2/25/20.

Docket Numbers: ER20-692-000.

Applicants: California Independent System Operator Corporation.

Description: § 205(d) Rate Filing: 2019-12-27 TCA Amendment to Add Horizon West Transmission, LLC to be effective 2/28/2020.

Filed Date: 12/27/19.

Accession Number: 20191227-5068.

Comments Due: 5 p.m. ET 1/17/20.

Docket Numbers: ER20-693-000.

Applicants: Tri-State Generation and Transmission Association, Inc.

Description: § 205(d) Rate Filing: Tri-State's Other Member Agreements #4 to be effective 3/23/2020.

Filed Date: 12/27/19.

Accession Number: 20191227-5069.

Comments Due: 5 p.m. ET 1/17/20.

Docket Numbers: ER20-694-000.

Applicants: Tri-State Generation and Transmission Association, Inc.

Description: § 205(d) Rate Filing: Tri-State's Other Member Agreements #5 to be effective 3/23/2020.

Filed Date: 12/27/19.

Accession Number: 20191227-5076.

Comments Due: 5 p.m. ET 1/17/20.

Docket Numbers: ER20-695-000.

Applicants: Tri-State Generation and Transmission Association, Inc.

Description: § 205(d) Rate Filing: Tri-State's Other Member Agreements #6 to be effective 3/23/2020.

Filed Date: 12/27/19.

Accession Number: 20191227-5086.

Comments Due: 5 p.m. ET 1/17/20.

Docket Numbers: ER20-696-000.

Applicants: American Transmission Systems, Incorporated, PJM Interconnection, L.L.C.

Description: § 205(d) Rate Filing: ATSI submits 6 ECSAs, Service Agreement Nos. 5445, 5446, 5447, 5501, 5502, 5503 to be effective 2/28/2020.

Filed Date: 12/30/19.

Accession Number: 20191230-5027.

Comments Due: 5 p.m. ET 1/20/20.

Docket Numbers: ER20-697-000.

Applicants: Midcontinent Independent System Operator, Inc.

Description: § 205(d) Rate Filing: 2019-12-30_SA 2013 Community Wind North LLC-NSP GIA (G586) to be effective 12/11/2019.

Filed Date: 12/30/19.

Accession Number: 20191230-5029.

Comments Due: 5 p.m. ET 1/20/20.

Docket Numbers: ER20-698-000.

Applicants: Mid-Atlantic Interstate Transmission, LLC, PJM Interconnection, L.L.C.

Description: § 205(d) Rate Filing: MAIT submits 2 ECSAs, Service Agreement Nos. 5341 and 5511 to be effective 2/28/2020.

Filed Date: 12/30/19.

Accession Number: 20191230-5030.

Comments Due: 5 p.m. ET 1/20/20.

Docket Numbers: ER20-699-000.

Applicants: PJM Interconnection, L.L.C.

Description: § 205(d) Rate Filing: Original WMPA, SA No. 5546; Queue No. AE2-056 to be effective 12/11/2019.

Filed Date: 12/30/19.

Accession Number: 20191230-5042.

Comments Due: 5 p.m. ET 1/20/20.

Docket Numbers: ER20-700-000.

Applicants: Alabama Power Company.

Description: § 205(d) Rate Filing: Blackbear Alabama Solar1 (Blackbear Solar) LGIA Filing to be effective 12/16/2019.

Filed Date: 12/30/19.

Accession Number: 20191230-5066.

Comments Due: 5 p.m. ET 1/20/20.

Docket Numbers: ER20-701-000.

Applicants: PJM Interconnection, L.L.C.

Description: § 205(d) Rate Filing: Original WMPA, SA No. 5554; Queue No. AE1-015 to be effective 12/10/2019.

Filed Date: 12/30/19.

Accession Number: 20191230-5067.

Comments Due: 5 p.m. ET 1/20/20.

Docket Numbers: ER20-702-000.

Applicants: ConocoPhillips Company.

Description: § 205(d) Rate Filing: Change of Seller Category Status to be effective 1/1/2020.

Filed Date: 12/30/19.

Accession Number: 20191230-5073.

Comments Due: 5 p.m. ET 1/20/20.

Docket Numbers: ER20-703-000.

Applicants: 41MB 8me LLC.

Description: Baseline eTariff Filing: 41MB 8me MBR Tariff to be effective 1/1/2020.

Filed Date: 12/30/19.

Accession Number: 20191230-5075.

Comments Due: 5 p.m. ET 1/20/20.

Docket Numbers: ER20-704-000.

Applicants: PJM Interconnection, L.L.C.

Description: § 205(d) Rate Filing: Original WMPA, SA No. 5553; Queue No. AE1-012 to be effective 12/10/2019.

Filed Date: 12/30/19.

Accession Number: 20191230-5078.

Comments Due: 5 p.m. ET 1/20/20.

Docket Numbers: ER20-705-000.

Applicants: California Independent System Operator Corporation.

Description: § 205(d) Rate Filing: 2019-12-30 Transferred Frequency Response Agreement with Bonneville to be effective 1/1/2020.

Filed Date: 12/30/19.

Accession Number: 20191230-5085.

Comments Due: 5 p.m. ET 1/20/20.

Docket Numbers: ER20-706-000.

Applicants: California Independent System Operator Corporation.

Description: § 205(d) Rate Filing: 2019-12-30 Transferred Frequency Response Agreement with Tucson Electric Power to be effective 1/1/2020.

Filed Date: 12/30/19.

Accession Number: 20191230-5087.

Comments Due: 5 p.m. ET 1/20/20.

Docket Numbers: ER20-707-000.

Applicants: Eastern Shore Solar LLC.

Description: § 205(d) Rate Filing: Initial Reactive Rate Schedule to be effective 12/31/2019.

Filed Date: 12/30/19.

Accession Number: 20191230-5091.

Comments Due: 5 p.m. ET 1/20/20.

Docket Numbers: ER20-708-000.

Applicants: PJM Interconnection, L.L.C.

Description: § 205(d) Rate Filing: Original WMPA, SA No. 5547; Queue No. AE2-081 to be effective 12/9/2019.

Filed Date: 12/30/19.

Accession Number: 20191230-5098.

Comments Due: 5 p.m. ET 1/20/20.

Docket Numbers: ER20-709-000.

Applicants: Heartland Generation Ltd.

Description: Compliance filing: Notice of Succession of Rate Schedule Tariff and Notice of Change in Status to be effective 12/30/2019.

Filed Date: 12/30/19.

Accession Number: 20191230-5101.

Comments Due: 5 p.m. ET 1/20/20.

Docket Numbers: ER20-710-000.

Applicants: New England Power Pool Participants Committee.

Description: § 205(d) Rate Filing: Jan 2020 Membership Filing to be effective 1/1/2020.

Filed Date: 12/30/19.

Accession Number: 20191230-5114.

Comments Due: 5 p.m. ET 1/20/20.

Docket Numbers: ER20-711-000.

Applicants: Cambria Wind, LLC.

Description: Baseline eTariff Filing: Application for Market Based Rate to be effective 1/31/2020.

Filed Date: 12/30/19.

Accession Number: 20191230-5117.

Comments Due: 5 p.m. ET 1/20/20.

Docket Numbers: ER20-712-000.

Applicants: Southwest Power Pool, Inc.

Description: § 205(d) Rate Filing: 1768R1 American Electric Power NITSA NOA to be effective 12/1/2019.

Filed Date: 12/30/19.

Accession Number: 20191230-5127.

Comments Due: 5 p.m. ET 1/20/20.

Docket Numbers: ER20-713-000.

Applicants: Southwest Power Pool, Inc.

Description: § 205(d) Rate Filing: 2881R9 City of Chanute, KS NITSA NOA to be effective 12/1/2019.

Filed Date: 12/30/19.

Accession Number: 20191230-5138.

Comments Due: 5 p.m. ET 1/20/20.

Take notice that the Commission received the following electric reliability filings:

Docket Numbers: RD20-1-000.

Applicants: North American Electric Reliability Corporation, Northeast Power Coordinating Council, Inc.

Description: Joint Petition of North American Electric Reliability Corporation and the Northeast Power Coordinating Council, Inc. for Approval of Proposed Regional Reliability Standard.

Filed Date: 12/23/19.

Accession Number: 20191223-5365.

Comments Due: 5 p.m. ET 1/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2019.
Nathaniel J. Davis, Sr.,
Deputy Secretary.

[FR Doc. 2019-28495 Filed 1-3-20; 8:45 am]

BILLING CODE 6717-01-P